DEPARTMENT OF JUSTICE

Notice of Lodging of Consent Decree Pursuant to the Clean Water Act

In accordance with Departmental policy and 28 CFR 50.7, the Department of Justice gives notice that a proposed consent decree with the City of Anderson, Indiana (“Anderson”) in the case captioned United States and the State of indiana v. City of Anderson, Indiana, Civil Action No. IP 02-1103 C M/S (S.D. Ind.) was lodged with the United States District Court for the Southern District of Indiana on July 18, 2002. The compliant filed in the case by the United States and the State of Indiana (the “Plaintiffs”) seeks civil penalties and injunctive relief from Anderson for alleged violations of the Clean Water Act, 33 U.S.C. 1251 et seq., and comparable state law.

The proposed consent decree sets forth the terms of a proposed settlement between the Plaintiffs and Anderson. Under the settlement, Anderson would: (1) pay a $250,000 civil penalty; and (2) implement specified compliance measures concerning operation and improvement of Anderson's sewer system and wastewater treatment plant.

For a period of thirty (30) days from the date of this publication, the Department of Justice will receive comments relating to the proposed consent decree. Comments should be addressed to the Assistant Attorney General, Environment and Natural Resources Division, United States Department of Justice, PO Box 7611, Washington, DC 20044-7611, and should refer to United States and the State of Indiana v. City of Anderson, Indiana, Civil Action No. IP 02-1103 C M/S (S.D. Ind.), and DOJ Reference Number 90-5-2-1-07043/2. A copy of the proposed consent decree may be examined at: (1) The Office of the United States Attorney for the Southern District of Indiana, 10 West Market Street—Suite 2100, Indianapolis, Indiana 46204 (contact Thomas Kieper (317-226-6333); and (2) the U.S. Environmental Protection Agency (Region 5), 77 West Jackson Boulevard, Chicago, Illinois 60604 (contact Stephen Mendoza (312-886-6852)). Copies of the proposed consent decree may also be obtained by mail from the Department of Justice Consent Decree Library, PO Box 7611, Washington, DC 20044-7611. In requesting copies, please refer to the above-referenced case name and DOJ Reference Number, and enclose a check made payable to the Consent Decree Library for $33.00 (132 pages at 25 cents per page reproduction cost).

William D. Brighton,
Assistant Chief, Environmental Enforcement Section, Environment and Natural Resources Division.

[FR Doc. 02-19387 Filed 7-31-02; 8:45 am]

BILLING CODE 4410-15-M